DEPARTMENT OF AGRICULTURE

Agriculture Marketing Service

7 CFR Part 1215

[Docket No. AMS-FV-07-0022; FV-06-706]

Popcorn Promotion, Research, and Consumer Information Order; Section 610 Review

AGENCY: Agricultural Marketing Service.

ACTION: Confirmation of regulations.

SUMMARY: This document summarizes the results of an Agricultural Marketing Service (AMS) review of the Popcorn Promotion, Research, and Consumer Information Program, under the criteria contained in Section 610 of the Regulatory Flexibility Act. Based upon its review, AMS has determined that the Popcorn Promotion, Research, and Consumer Information Order should be continued without change.

ADDRESSES: Interested persons may obtain a copy of the review at www.regulations.gov or requests for copies can be sent to the Docket Clerk, Research and Promotion Branch, Fruit and Vegetable Programs (FV), Agricultural Marketing Service (AMS), USDA, Stop 0244, Room 0634-S, 1400 Independence Avenue, SW., Washington, DC 20250-0244; telephone (202) 720-9915; Fax (202) 205-2800; or e-mail: Deborah.Simmons@usda.gov.

FOR FURTHER INFORMATION CONTACT: Sonia N. Jimenez, Research and Promotion Branch, FV, AMS, USDA, Stop 0244, 1400 Independence Avenue, SW., Room 0634-S, Washington, DC 20250-0244; telephone: (888) 720-9917; fax: (202) 205-2800; or e-mail:

SUPPLEMENTARY INFORMATION: The Popcorn Promotion, Research, and Consumer Information Act of 1996 (Act) (7 U.S.C. 7481 et seq.) authorized the Popcorn Promotion, Research, and Consumer Information Order (Order) which is industry operated and funded, with oversight by USDA. The Order's objective is to carry out an effective and continuous coordinated program of research, development, advertising, and promotion designed to strengthen popcorns' competitive position, and to maintain and expand domestic and foreign markets for popcorn and popcorn products.

The Order (7 CFR Part 1215) became effective on September 1, 1997, and was implemented in January 1998 when assessments began. The Popcorn Board (Board) collects assessments from processors of over four million pounds of popcorn per year, regardless of the country of origin of the popcorn. The assessment rate is 6 cents per hundredweight.

Assessments under this program are used to fund promotional campaigns and to conduct research in the areas of U.S. marketing, and international marketing and to enable it to exercise its duties in accordance with the Order.

The Order is administered by the Popcorn Board, which is composed of nine at-large processors who were appointed by the Secretary of Agriculture from nominations submitted by eligible processors. All processors of over four million pounds of popcorn annually are eligible to participate in the nomination process. All Board members serve terms of three years.

The Agricultural Marketing Service published in the Federal Register on March 24, 2006 (71 FR 14828) its plan to review certain regulations, including the Order, (conducted under the Popcorn Promotion, Research, and Consumer Information Act), under criteria contained in Section 610 of the Regulatory Flexibility Act (RFA) (5 U.S.C. 601-612). Because many AMS regulations impact small entities, AMS decided, as a matter of policy, to review certain regulations which, although they may not meet the threshold requirement under section 610 of the RFA, warranted review.

AMS published a notice of review and request for written comments in the Federal Register on February 27, 2007 (72 FR 8633). The comment period ended on April 30, 2007. AMS received two comments. One commenter stated that it is a waste of tax dollars for USDA to oversee this program. In addition, the commenter stated that there is nothing about popcorn that needs to be researched and that private industry should conduct research if they so choose.

Expenses under the program are covered by assessments paid by the industry. The Popcorn Board is comprised of industry members that decide the projects the Board will conduct every year. All the activities of the Board, including USDA oversight costs, are paid by the popcorn industry from the assessments collected. Accordingly, no changes will be made based on this comment.

The second commenter was in favor of the program, noting that it increases awareness of popcorn.

The review was undertaken to determine whether the Order should be continued without change, amended, or rescinded (consistent with the objectives of the Act) to minimize the impacts on small entities. In conducting this review, AMS considered the followings factors: (1) The continued need for the Order; (2) the nature of complaints or comments received from the public concerning the Order; (3) the complexity of the Order; (4) the extent to which the Order overlaps, duplicates, or conflicts with other Federal rules, and, to the extent feasible, with State and local regulations; and (5) the length of time since the Order has been evaluated or the degree to which technology, economic conditions, or other factors have changed in the area affected by the Order.

Currently, there are approximately 35 processors who are subject to the provisions of the Order. Processors of less than four million pounds of popcorn are exempt from assessment.

AMS provides Federal oversight of the Popcorn program. The Order is not unduly complex, and AMS has not identified any Federal rules, or State and local regulations that duplicate, overlap, or conflict with the Order. Over the years, regulation changes have been made to address industry operation changes and to improve program administration. The goal of these evaluations is to assure that the Order and the regulations implemented under it fit the needs of the industry and are consistent with the Act.

Based upon its review, AMS has determined that the Order should be continued without change. AMS plans to continue working with the popcorn industry in maintaining an effective program.

Dated: June 7, 2007.
Lloyd C. Day,
Administrator, Agricultural Marketing Service.

[FR Doc. E7-11376 Filed 6-12-07; 8:45 am]

BILLING CODE 3410-02-P